DEPARTMENT OF JUSTICE

Notice of Lodging of Consent Decree Under the Clean Air Act

In accordance with Departmental policy, 28 C.F.R. § 50.7, notice is hereby given that a proposed consent decree in the case of United States v. Las Vegas Paving Corp., Civil Action No. CVS-00-0049-DWH-LRL (D. Nevada), was lodged with the United States District Court for the District of Nevada on January 10, 2000.

The proposed consent decree resolves claims that the United States asserted against Las Vegas Paving Corp. (LVPC) in a civil complaint filed concurrently with the lodging of the consent decree. The complaint alleges that LVPC installed and operated five internal combustion engines at its Lone Mountain facility in Clark County, Nevada, in violation of permitting requirements of the Nevada State Implementation Plan for Clark County, and that LVPC installed and operated affected facilities at its Apex facility in Clark County, Nevada, and failed to comply with notification and performance test requirements of the New Source Performance Standards of 40 C.F.R. Part 60 Subparts A, I, and OOO.

The proposed consent decree requires defendant to pay a civil penalty of $82,500. In addition, defendant is required to apply timing retardation to one engine and conduct a source test on that engine, apply for permits for two engines, and cease the operation of three engines unless it applies for permits.

The Department of Justice will accept comments relating to this consent decree for a period of thirty (30) days from the date of this publication. Address your comments to the Assistant Attorney General for the Environment and Natural Resources Division, Department of Justice, Washington, DC 20530, and send a copy to the Environmental Enforcement Section, U.S. Department of Justice, 301 Howard Street, Suite 870, San Francisco, CA 94105. Your comments should refer to United States v. Las Vegas Paving Corp., Civil Action No. CVS-00-0049-DWH-LRL (D. Nevada), and DOJ No. 90-5-2-1-2220.

You may examine the proposed consent decree at the office of the United States Attorney, District of Nevada, 701 East Bridger Avenue, Suite 600, Las Vegas, Nevada 89101. You may also obtain a copy of the consent decree by mail from the Consent Decree Library, P.O. Box 7611, Washington, DC 20044. Your request for a copy of the consent decree should refer to United States v. Las Vegas Paving Corp., Civil Action No. CVS-00-0049-DWH-LRL (D. Nevada), and DOJ No. 90-5-2-1-2220, and must include a check for $4.25 (25 cents per page reproduction cost) payable to the “Consent Decree Library.”

Joel Gross,
Chief, Environmental Enforcement Section, Environment and Natural Resources Division.

[FR Doc. 00-1877 Filed 1-26-00; 8:45 am]

BILLING CODE 4410-15-M